DEPARTMENT OF THE INTERIOR

National Park Service

[3401-318]

Information Collection Sent to the Office of Management and Budget (OMB) for Approval; OMB Control Number 1024-0021; National Capital Region (NCR) Application for Public Gathering

AGENCY: National Park Service, Interior.

ACTION: Notice; request for comments.

SUMMARY: We (National Park Service, NPS) have sent an Information Collection Request (ICR) to OMB for review and approval. We summarize the ICR below and describe the nature of the collection and the estimated burden and cost. This ICR is scheduled to expire on November 30, 2010. We may not conduct or sponsor and a person is not required to respond to a collection of information unless it displays a currently valid OMB control number. However, under OMB regulations, we may continue to conduct or sponsor this information collection while it is pending at OMB.

DATES: You must submit comments on or before December 27, 2010.

ADDRESSES: Send your comments and suggestions on this information collection to the Desk Officer for the Department of the Interior, Office of Information and Regulatory Affairs, OMB, at (202) 395-5806 (fax) or OIRA_DOCKET@OMB.eop.gov (e-mail). Please provide a copy of your comments to Ms. Robbin Owen, Chief, Division of Park Programs, National Mall and Memorial Parks, National Capital Region, National Park Service, 1100 Ohio Drive, SW., Room 128, Washington, DC 20242; or via fax at 202-401-2430; or via e-mail at Robbin_Owen@nps.gov.

FOR FURTHER INFORMATION CONTACT: To request additional information about this ICR, contact Robbin Owen by mail, fax, or e-mail (see ADDRESSES) or by telephone at (202) 619-7225.

SUPPLEMENTARY INFORMATION: OMB Control Number: 1024-0021.

Title: National Capital Region Application for Public Gathering, 36 CFR 7.96(g).

Form Number: None.

Type of Request: Revision of a currently approved collection.

Description of Respondents: Individuals, organizations, and State/local/tribal governments that wish to conduct a special event or demonstration on NPS properties within the National Capital Region.

Respondent's Obligation: Required to obtain or retain a benefit.

Frequency of Collection: On occasion.

Estimated Number of Respondents: 2,051.

Estimated Number of Responses: 2,051.

Completion Time per Response: 0.5 hours.

Estimated Annual Burden Hours: 1,026.

Estimated Annual Nonhour Burden Cost: $102,550 associated with recovering the costs of processing applications.

Abstract: The information collection responds to the statutory requirement (36 CFR 7.96(g)) that the NPS preserve park resources and regulate the use of units of the National Park System. The information to be collected identifies: (1) Individuals, organizations, and State/local/tribal governments that wish to conduct a public gathering on NPS property in the National Capital Region, (2) the logistics of a proposed demonstration or special event to aid the NPS in regulating activities to ensure that they are consistent with the NPS mission, (3) potential civil disobedience and traffic control issues for the assignment of United States Park Police personnel, and (4) circumstances that may warrant a bond to be assigned to the event for the purpose of covering potential cost to repair damage caused by the event.

Comments: On April 19, 2010, we published in the Federal Register (75 FR 20375) a notice of our intent to request that OMB renew this information collection. In that notice, we solicited comments for 60 days, ending on June 18, 2010. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: November 19, 2010.
Robert Gordon,
NPS, Information Collection Clearance Officer.

[FR Doc. 2010-29698 Filed 11-24-10; 8:45 am]

BILLING CODE 4310-70-P